DEPARTMENT OF TRANSPORTATION

Federal Highway Administration

[Docket No. FHWA-2006-23638]

Highway Performance Monitoring System—Reassessment

AGENCY: Federal Highway Administration (FHWA), DOT.

ACTION: Notice; request for comments.

SUMMARY: The FHWA is currently conducting a reassessment of the Highway Performance Monitoring System (HPMS), which is a national highway transportation system database maintained and used primarily by the FHWA as a resource for information about the extent, condition, performance, use, and operating characteristics of the Nation's highways. This notice requests public comment on the draft HPMS Reassessment Recommendations Report, which is available in the docket and via the FHWA Web site at www.fhwa.dot.gov/policy/ohpi/hpms/index.htm. This draft report documents in detail various issues and proposed changes to specific HPMS data items and the associated collecting and reporting procedures based in part upon customer and data provider needs. The FHWA requests public comments on this draft report. The report would enhance and improve HPMS procedures and incorporate changing data customer needs while building a stronger partnership with the HPMS data user and provider community.

DATES: Comments on the draft report must be received on or before June 30, 2007. The docket however, will remain open until the reassessment is complete. We anticipate that the reassessment will be completed on September 30, 2007.

ADDRESSES: Mail or hand deliver comments to the U.S. Department of Transportation, Dockets Management Facility, Room PL-401, 400 Seventh Street, SW., Washington, DC 20590, or submit electronically at http://dms.dot.gov/submit, or fax comments to (202) 493-2251. All comments should include the docket number that appears in the heading of this document. All comments received will be available for examination and copying at the above address from 9 a.m. to 5 p.m., e.t., Monday through Friday, except Federal holidays. Those desiring notification of receipt of comments must include a self-addressed, stamped postcard or you may print the acknowledgement page that appears after submitting comments electronically. Anyone is able to search the electronic form of all comments received into any of our dockets by the name of the individual submitting the comments (or signing the comment, if submitted on behalf of an association, business, labor union, etc.). You may review DOT's complete Privacy Act Statement in the Federal Register published on April 11, 2000 (Volume 65, Number 70, Pages 19477-78) or you may visit http://dms.dot.gov.

FOR FURTHER INFORMATION CONTACT: Mr. David Winter, Highway System Performance Division, Office of Highway Information, (202) 366-0175, David.Winter@dot.gov; or Janet Myers, Office of the Chief Counsel, (202) 366-2019, Janet.Myers@dot.gov; Federal Highway Administration, Department of Transportation, 400 Seventh Street, SW., Washington, DC 20590. Office hours are from 7:45 a.m. to 4:15 p.m., e.t., Monday through Friday, except Federal holidays.

SUPPLEMENTARY INFORMATION:

Electronic Access: You may submit or retrieve comments online through the Document Management System (DMS) at http://dms.dot.gov/submit. The DMS is available 24 hours each day, 365 days each year. Electronic submission and retrieval help and guidelines are available under the help section of the Web site.

An electronic copy of this notice may be downloaded from the Office of the Federal Register's home page at http://www.archives.gov. and the Government Printing Office's Web site at http://www.access.gpo.gov.

Background

On April 10, 2006, the FHWA published a notice in the Federal Register (71 FR 18134) announcing the initiation of a reassessment of the HPMS. The notice served as an announcement and requested public comment on issues related to the reassessment effort of the HPMS that the FHWA initiated. Public comments were solicited at that time on the described conceptual plan for the reassessment, in addition to comments on other issues that should be considered in planning and conducting the reassessment. During the reassessment, the FHWA developed working issue papers and placed them in the docket for review and comment. The working issue papers are still available for comment in the docket.

The HPMS first was developed in 1978 as a national highway transportation system database. In its current configuration, the HPMS includes limited data on all public roads, more detailed data for a sample of the arterial and collector functional systems, and area-wide summary information for urbanized, small urban, and rural areas. Over its nearly 30 year life, the HPMS has evolved, adjusting to legislative and other changes in the focus of the highway program.

Draft HPMS Reassessment Recommendations Report

The FHWA continues to take an open approach to completing the reassessment effort. Major emphasis is directed towards determining the data needs of FHWA's partners, stakeholders, and customers, the various uses of the existing HPMS, and the ability of data providers to support these data needs.

There are three major categories of proposed changes discussed in the HPMS Reassessment Recommendations Report: (1) Structure of HPMS; (2) Data Items; and, (3) Data Quality Process Improvement. In each category, the report explores the potential impact of the recommended changes on the State data providers, the FHWA, and the data users. Each recommendations is accompanied by an explanation as to why certain decisions were made, along with feedback from HPMS data users and providers gathered through the outreach portion of the reassessment. The recommendation topic areas by category are:

• Structure of HPMS: Data Model, Sampling, Boundaries and Functional Classification, and Interchanges and Ramps;

• Data Items: Safety, Pavements, Interchanges and Ramps, Freight, and Capacity; and

• Data Quality and Process Improvement.

The FHWA has prepared the draft version of the HPMS Reassessment Recommendations Report after taking into consideration comments made directly through the docket, raised at all workshops, and collected through other outreach efforts. Comments on the draft report should be submitted to the FHWA through the docket on or before June 30, 2007. The FHWA will respond to comments on the draft report generated by this notice and expects to complete its final recommendations report and publish it in the Federal Register for public review and comment by September 30, 2007.

Outreach

As a part of the reassessment, the FHWA will conduct a second series of outreach meetings and workshops: On March 7-8 (8 a.m.-4 p.m., e.t.) in Baltimore, MD, on March 13-14 (8 a.m.-4 p.m., p.t.) in Sacramento, CA, and on March 27-28 (8 a.m.-4 p.m., c.t.) in Topeka, KS, at which interested parties are asked to provide input and help to refine a future HPMS direction based on the recommendations made in the draft report. The FHWA will post specific workshop information online at http://www.fhwa.dot.gov/policy/ohpi/hpms/index.htm. Soon after the outreach workshops take place, the FHWA will place the minutes and other supporting documents in the docket for review and comment. Interested parties should continue to check the docket for new material.

Conclusion

The FHWA is soliciting public comments on the draft HPMS Reassessment Recommendations Report. Modifications to this draft report may be based on the comments received, if any. The draft report is available in the docket and via the FHWA Web site at: http://www.fhwa.dot.gov/policy/ohpi/hpms/index.htm. Additionally, the FHWA will hold several outreach sessions to further discuss the reassessment of the HPMS. As previously mentioned, the FHWA will post specific information about the outreach meetings on its Web site at http://www.fhwa.dot.gov/policy/ohpi/hpms/index.htm.

Authority: 23 U.S.C. 502; 23 CFR 1.5.

Issued on: February 2, 2007.
J. Richard Capka,
Federal Highway Administrator.

[FR Doc. 07-578 Filed 2-8-07; 8:45 am]

BILLING CODE 4910-22-M